DEPARTMENT OF ENERGY

Federal Energy Regulatory Commission

[Docket No. EL19-38-000]

City and County of San Francisco v. Pacific Gas and Electric Company; Notice of New Comment Date

On January 28, 2019, City and County of San Francisco (San Francisco or Complainant) filed a formal complaint (Complaint) against Pacific Gas and Electric Company (PG&E) pursuant to sections 206, 306, and 309 of the Federal Power Act ¹ and Rule 206 of the Federal Energy Regulatory Commission's (Commission) Rules of Practice and Procedure,² alleging that PG&E has violated its open-access Wholesale Distribution Tariff (WDT) and that it is implementing its WDT in a manner that is unjust, unreasonable, and unduly discriminatory. The Complaint was noticed with a comment date of February 19, 2019.

¹ 16 U.S.C. 824e, 825e, and 825h.

² 18 CFR 385.206.

On February 19, 2019, PG&E filed a notice in this proceeding stating that it filed a petition under Chapter 11 of the Bankruptcy Code in the United States Bankruptcy Court for the Northern District of California, and thus the automatic stay provision of section 362 of the Bankruptcy Code applied to stay the instant proceeding. Subsequently, on May 30, 2019, PG&E filed an answer to the Complaint (Answer). PG&E notes in its Answer that on May 15, 2019, the Honorable Dennis Montali, the judge presiding over PG&E's bankruptcy proceeding, ruled that San Francisco “could continue to prosecute this Complaint and FERC could continue to hear it.” ³

³ Answer at n.4.

Upon consideration, to provide other interested persons with an opportunity to move to intervene in this proceeding and comment on the Complaint, the comment date is hereby extended to and including June 27, 2019.

Dated: June 17, 2019.
Nathaniel J. Davis, Sr.,
Deputy Secretary.

[FR Doc. 2019-13231 Filed 6-20-19; 8:45 am]

BILLING CODE 6717-01-P